DEPARTMENT OF JUSTICE

Drug Enforcement Administration

[Docket No. DEA-651]

Importer of Controlled Substances Application: Agilent Technologies

ACTION: Notice of application.

DATES: Registered bulk manufacturers of the affected basic class(es), and applicants therefore, may file written comments on or objections to the issuance of the proposed registration on or before June 29, 2020. Such persons may also file a written request for a hearing on the application on or before June 29, 2020.

ADDRESSES: Written comments should be sent to: Drug Enforcement Administration, Attention: DEA Federal Register Representative/DPW, 8701 Morrissette Drive, Springfield, Virginia 22152. All requests for a hearing must be sent to: Drug Enforcement Administration, Attn: Administrator, 8701 Morrissette Drive, Springfield, Virginia 22152. All request for a hearing should also be sent to: (1) Drug Enforcement Administration, Attn: Hearing Clerk/OALJ, 8701 Morrissette Drive, Springfield, Virginia 22152; and (2) Drug Enforcement Administration, Attn: DEA Federal Register Representative/DPW, 8701 Morrissette Drive, Springfield, Virginia 22152.

SUPPLEMENTARY INFORMATION: In accordance with 21 CFR 1301.34(a), this is notice that on May 11, 2020, Agilent Technologies, 250 Smith Street, North Kingstown, Rhode Island 02852, applied to be registered as an importer of the following basic class(es) of controlled substances:

Controlled substance | Drug code | Schedule
Marihuana | 7360 | I
Tetrahydrocannabinols | 7370 | I

The company plans to import the listed controlled substances in bulk form for testing and calibration only. The listed controlled substances are not for human or animal use. No other activities for these drug codes are authorized for this registration.

William T. McDermott,
Assistant Administrator.

[FR Doc. 2020-11546 Filed 5-28-20; 8:45 am]

BILLING CODE 4410-09-P